DEPARTMENT OF STATE

Millennium Challenge Corporation

[Public Notice 4698; 5 U.S.C. 552b(e); FR 04-04]

Notice of May 6, 2004, Millennium Challenge Corporation Board of Directors Meeting; Sunshine Act Meeting

AGENCY: Millennium Challenge Corporation.

Time and Date: 9-11 a.m., May 6, 2004.

Place: Department of State, C Street Entrance, Washington, DC 20520.

FOR FURTHER INFORMATION CONTACT: Information on the meeting may be obtained from Shirley Puchalski at (703) 875-7337.

Status: Meeting will be open to the public from 9 a.m. until conclusion of the administrative session; a closed session will commence immediately following the conclusion of the open session, at approximately 9:20 a.m.

Matters To Be Considered: The Board of Directors (the “Board”) of the Millennium Challenge Corporation (“MCC”) will hold a quarterly meeting of the Board to consider the selection of countries that will be eligible for Millennium Challenge Account assistance in FY2004 under the Millennium Challenge Act of 2003 (Pub. L. 108-199 (Division D)) and certain administrative matters. The majority of the meeting will be devoted to a discussion of candidate countries, which is expected to involve the consideration of classified information and will be closed to the public. A brief open session relating to certain administrative matters and an update for the Board on MCC operations will precede the closed session.

Due to security requirements at the meeting location, all individuals wishing to attend the open portion of the meeting must notify Ghadah Sabbagh at (202) 647-6286 (sabbaghgb@state.gov) of their intention to attend the meeting by noon on Tuesday, May 4, 2004, and must comply with all relevant security requirements of the Department of State, including providing the necessary information to obtain any required clearance. Seating for the brief open session will be available on a first come, first served basis.

Dated: April 27, 2004.
Alan Larson,
Interim Chief Executive Officer, Millennium Challenge Corporation, Department of State.

[FR Doc. 04-9842 Filed 4-27-04; 1:38 pm]

BILLING CODE 4710-07-P